DEPARTMENT OF LABOR

[TA-W-55,434 and TA-W-55,434a]

Employment and Training Administration

Kent Sporting Goods Company, Inc. New London, OH, Including an Employee Located in Madison, GA; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 8, 2004, applicable to workers of Kent Sporting Goods, New London, Ohio. The notice was published in the Federal Register on September 23, 2004 (69 FR 57094).

At the request of the company, the Department reviewed the certification for workers of the subject firm. The workers are engaged in the production of life vests.

The company reports that a worker separation occurred at the Madison, Georgia location of the subject firm where the worker provided telemarketing services for the subject firm's production plant located in New London, Ohio.

Based on these findings, the Department is amending the certification to include the worker of the New London, Ohio facility of Kent Sporting Goods located in Madison, Georgia.

The intent of the Department's certification is to include all workers of Kent Sporting Goods who were adversely affected by increased company imports.

The amended notice applicable to TA-W-55,434 is hereby issued as follows:

All workers of Kent Sporting Goods, New London, Ohio (TA-W-55,434), including an employee of Kent Sporting Goods, New London, Ohio, located in Madison, Georgia (TA-W-55,434A), who became totally or partially separated from employment on or after August 3, 2003, through September 8, 2006, are eligible to apply for adjustment assistance under Section 223 of the Trade Act of 1974, and are also eligible to apply for alternative trade adjustment assistance under Section 246 of the Trade Act of 1974.

Signed in Washington, DC this 27th day of July 2006.
Richard Church,
Certifying Officer, Division of Trade Adjustment Assistance.

[FR Doc. E6-13083 Filed 8-9-06; 8:45 am]

BILLING CODE 4510-30-P